DEPARTMENT OF THE INTERIOR

Bureau of Land Management

DEPARTMENT OF AGRICULTURE

Forest Service

[CA-160-1220-PG]

Santa Rosa and San Jacinto Mountains National Monument Advisory Committee; Notice of Intent to Establish and Call for Nominations

AGENCIES: Bureau of Land Management, Interior; Forest Service, Agriculture.

ACTION: Notice of intent to establish and call for nominations for the Santa Rosa and San Jacinto Mountains National Monument Advisory Committee under the Santa Rosa and San Jacinto Mountains National Monument Act of 2000, Public Law 106-351 (16 U.S.C. 431 note).

SUMMARY: The Santa Rosa and San Jacinto Mountains National Monument Act of 2000 (Act) requires the Secretaries of Interior and Agriculture to establish a National Monument Advisory Committee (Committee) to advise them on resource management issues associated with the Santa Rosa and San Jacinto Mountains National Monument. This notice requests the public to submit nominations for membership on the Committee. The Committee will be managed under the provisions of the Federal Advisory Committee Act.

DATES: Submit nominations to one of the addresses listed below no later than July 2, 2001.

ADDRESSES: Send nominations to: Advisory Committee Nominations, Mr. James G. Kenna, Bureau of Land Management, P.O. Box 581260, North Palm Springs, California 92258, 760-251-4800 or Mr. Fran Colwell, Forest Service, 1824 S. Commercenter Circle, San Bernardino, California 92408, 909-884-6634 x 3144.

FOR FURTHER INFORMATION CONTACT: Mr. James G. Kenna, Bureau of Land Management, 760-251-4800 or Mr. Fran Colwell, Forest Service, 909-884-6634 x 3144.

SUPPLEMENTARY INFORMATION: As directed by the Act, the Secretary of the Interior and the Secretary of Agriculture are jointly establishing an advisory committee for the Santa Rosa and San Jacinto Mountains National Monument (Monument). The Committee's purpose is to advise the Secretaries with respect to the preparation and implementation of a management plan for the Monument. The Committee will meet periodically at the request of the designated Federal officer, or his or her designee, to gather and analyze information, conduct studies and field examinations, hear public testimony, ascertain facts, and, in an advisory capacity only, develop recommendations concerning planning for the management and uses of the National Monument. The Committee will normally meet twice annually, but in no case less than once annually. Additional meetings may be called by the designated Federal officer or his or her designee in connection with special needs for advice. A Committee Chairperson and Vice Chairperson will be elected by the Committee from among its members annually.

Any individual or organization may nominate one or more persons to serve on the Committee. Individuals may nominate themselves for Committee membership. You may obtain nomination forms from the BLM or Forest Service by contacting the individuals listed in ADDRESSES above. To make a nomination, you must submit a completed nomination form, letters of reference from the represented interests or organizations, and any other information that speaks to the nominee's qualifications, to the offices listed above. You may make nominations for the following categories of interest, as specified in the Act: (1) A representative with expertise in natural science and research selected from a regional college or university; (2) a representative of the California Department of Fish and Game or the California Department of Parks and Recreation; (3) a representative of the County of Riverside, California; (4) a representative from each of the following cities: Palm Springs, Cathedral City, Rancho Mirage, La Quinta, Palm Desert, and Indian Wells; (5) a representative of the Agua Caliente Band of Cahuilla Indians; (6) a representative of the Coachella Valley Mountains Conservancy; (7) a representative of a local conservation organization; (8) a representative of a local developer or builder organization; (9) a representative of the Winter Park Authority; and (10) a representative of the Pinyon Community Council. Nominations to the Committee should describe and document the proposed member's qualifications for membership on the Advisory Committee.

Committee members will be appointed to serve 3-year terms, except that, of the members first appointed, one-third of the members shall be appointed for a term of 1 year and one-third of the members shall be appointed for a term of 2 years. All members will serve without pay but will be reimbursed for travel and per diem expense at current rates for government employees under 5. U.S.C. 5703.

Appointments to the Committee will be made by the Secretary of the Interior with the concurrence of the Secretary of Agriculture.

Dated: May 22, 2001.
Tim Salt,
California Desert District Manager, Bureau of Land Management.
Dated: May 22, 2001.
Paul Weeden,
Acting Forest Supervisor, San Bernardino National Forest.

[FR Doc. 01-13693 Filed 5-30-01; 8:45 am]

BILLING CODE 4310-33-P